SECURITIES AND EXCHANGE COMMISSION

Sunshine Act Meeting; Cancellation

FEDERAL REGISTER CITATION OF PREVIOUS ANNOUNCEMENT: 81 FR 29314, May 11, 2016.

PREVIOUSLY ANNOUNCED TIME AND DATE OF THE MEETING: Friday, May 13, 2016 at 10:30 a.m.

CHANGES IN THE MEETING: The Closed Meeting scheduled for Friday, May 13, 2016 at 10:30 a.m., has been cancelled.

CONTACT PERSON FOR MORE INFORMATION: For further information and to ascertain what, if any, matters have been added, deleted or postponed, please contact Brent J. Fields of the Office of the Secretary at (202) 551-5400.

Dated: May 11, 2016.
Brent J. Fields,
Secretary.

[FR Doc. 2016-11533 Filed 5-11-16; 4:15 pm]

BILLING CODE 8011-01-P